DEPARTMENT OF EDUCATION

National Assessment Governing Board; Meeting

AGENCY: National Assessment Governing Board, U.S. Department of Education.

ACTION: Announcement of an open teleconference meeting.

SUMMARY: This notice sets forth the agenda for a January 31, 2020 teleconference meeting of the National Assessment Governing Board (hereafter referred to as Governing Board).

DATES: January 31, 2020 from 2:30 p.m. to 3:30 p.m. Eastern Standard Time (EST).

ADDRESSES: Teleconference meeting.

FOR FURTHER INFORMATION CONTACT: Munira Mwalimu, Executive Officer/Designated Federal Official for the Governing Board, 800 North Capitol Street NW, Suite 825, Washington, DC 20002, telephone: (202) 357-6938, fax: (202) 357-6945, email: Munira.Mwalimu@ed.gov.

SUPPLEMENTARY INFORMATION: Statutory Authority and Function: The Governing Board is established under the National Assessment of Educational Progress Authorization Act, Title III of Public Law 107-279. The Governing Board is established to formulate policy for NAEP administered by the National Center for Education Statistics (NCES). The Governing Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public. Governing Board members serve 4-year terms, subject to renewal for another 4 years, at the discretion of the Secretary of Education.

Meeting Agenda

On Friday, January 31, 2020, the National Assessment Governing Board will convene a teleconference meeting in open session to review, discuss, and take action on the draft Assessment and Item Specifications for the 2025 NAEP Mathematics Framework. The draft Mathematics Framework was adopted by the Governing Board on November 16, 2019. This action is being taken pursuant to the Governing Board's delegation of authority issued on November 16, 2019 to the Assessment Development Committee (ADC) and the Committee on Standards, Design, and Methodology (COSDAM) to review and take action on the Assessment and Item Specifications for the 2025 NAEP Mathematics Framework.

ADC and COSDAM members will meet jointly on January 31, 2020 from 2:30 p.m. to 3:30 p.m. ET to review the draft Assessment and Item Specifications for the 2025 NAEP Mathematics Framework. Following discussion, ADC and COSDAM will take joint action on the draft Assessment and Item Specifications for the 2025 NAEP Mathematics Framework. As a resource for developing test items for the 2025 operational assessment, timely review and Board approval of this specifications document provides clarifications of the Board-adopted framework that will support the National Center for Education Statistics (NCES) in assessment development for 2025.

Public Participation: Notice of the meeting is required under § 10(a)(2) of the Federal Advisory Committee Act (FACA). The meeting is open to the public. Written statements may be filed with the Governing Board either before or after the meeting. Members of the public who wish additional information on the meeting and participation may contact Munira Mwalimu at the address or telephone number listed above. The Governing Board is empowered to conduct the teleconference meeting in a manner that will facilitate the orderly conduct of business and accomplish meeting objectives in a timely manner.

Access to Records of the Meeting: Pursuant to FACA requirements, the public may inspect the meeting report of the teleconference at the National Assessment Governing Board office, 10 working days after the teleconference meeting.

Reasonable Accommodations: The NAGB website is accessible to individuals with disabilities. Written comments may be submitted electronically or in hard copy to the attention of the Executive Officer/Designated Federal Official (see contact information noted above). Information on the Governing Board and its work can be found at www.nagb.gov.

Electronic Access to this Document: The official version of this document is the document published in the Federal Register. Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the Adobe website. You may also access documents of the Department published in the Federal Register by using the article search feature at: www.federalregister.gov. Specifically, through the advanced search feature at this site, you can limit your search to documents published by the Department.

Authority: Pub. L. 107-279, Title III—National Assessment of Educational Progress § 301.

Lesley Muldoon,
Executive Director, National Assessment Governing Board (NAGB), U.S. Department of Education.

[FR Doc. 2020-00794 Filed 1-17-20; 8:45 am]

BILLING CODE P